DEPARTMENT OF DEFENSE

Department of the Navy

Notice of Intent To Grant Exclusive Patent License; Aonex Technologies, Inc.

AGENCY: Department of the Navy, DOD.

ACTION: Notice.

SUMMARY: The Department of the Navy hereby gives notice of its intent to grant to Aonex Technologies, Inc., a revocable, non-assignable, exclusive license, to practice in the field of substrates for electro-optical device processing comprised of thin films on polycrystalline materials, devices made using such substrates, manufacturing techniques utilizing such substrates, and methods for manufacturing such substrates in the United States and certain foreign countries, the Government-owned invention described in U.S. Patent No. 6,328,796: Single-Crystal Material on Non-Single-Crystalline Substrate, Navy Case No. 78,978 and in the field of substrates for electro-optical device processing comprised of thin films on substrates wherein at least one layer is polycrystalline, devices made using these substrates, manufacturing processes utilizing these substrates, and methods for manufacturing such substrates in the United States and certain foreign countries the Government-owned invention described in U.S. Patent No. 6,497,763: Electronic Device with Composite Substrate, Navy Case No. 82,672.

DATES: Anyone wishing to object to the grant of this license must file written objections along with supporting evidence, if any, not later than September 23, 2005.

ADDRESSES: Written objections are to be filed with the Naval Research Laboratory, Code 1004, 4555 Overlook Avenue, SW., Washington, DC 20375-5320.

FOR FURTHER INFORMATION CONTACT: Ms. Jane Kuhl, Head, Technology Transfer Office, NRL Code 1004, 4555 Overlook Avenue, SW., Washington, DC 20375-5320, telephone (202) 767-3083. Due to U.S. Postal delays, please fax (202) 404-7920, E-Mail: kuhl@utopia.nrl.navy.mil or use courier delivery to expedite response.

Authority: 35 U.S.C. 207, 37 CFR Part 404.

Dated: August 31, 2005.
I.C. Le Moyne, Jr.,
Lieutenant, Judge Advocate General's Corps, U.S. Navy, Alternate Federal Register Liaison Officer.

[FR Doc. 05-17775 Filed 9-7-05; 8:45 am]

BILLING CODE 3810-FF-P